DEPARTMENT OF THE INTERIOR

Bureau of Land Management

[LLNMP02000 L71220000.EX0000 LVTFGX9G4200]

Notice of Availability of the Draft EIS for the HB In-Situ Solution Mine Project, Eddy County, NM

AGENCY: Bureau of Land Management, Interior.

ACTION: Notice of Availability.

SUMMARY: In accordance with the National Environmental Policy Act of 1969, as amended (NEPA), the Bureau of Land Management (BLM) has prepared a Draft Environmental Impact Statement (EIS) for the HB In-Situ Solution Mine Project, and by this Notice is announcing the opening of the comment period.

DATES: To ensure comments will be considered, the BLM must receive written comments on the HB In-Situ Solution Mine Project Draft EIS within 60 days following the date of publication of this Notice of Availability in the Federal Register. The BLM will announce future meetings or hearings and any other public involvement activities at least 15 days in advance through public notices, media releases, and/or mailings.

ADDRESSES: You may submit comments related to the HB In-Situ Solution Mine Project by any of the following methods:

• Web site: http://www.nm.blm.gov/cfo/HBIS/index.html

• E-mail: nmcfo_comment@blm.gov

• Fax: 575-885-9264

• Mail: Bureau of Land Management, 620 E. Greene St., Carlsbad, New Mexico 88220

Copies of the HB In-Situ Solution Mine Project proposal are available in the Carlsbad Field Office at the above address.

FOR FURTHER INFORMATION CONTACT: Contact David Alderman, Assistant Project Manager; telephone 575-234-6232; address 620 E. Greene St., Carlsbad, New Mexico 88220; e-mail david_alderman@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Intrepid Potash, Inc. (Intrepid) is proposing to extract potash, a potassium compound commonly used for fertilizer, remaining in inactive underground mine workings using solution mining methods. Intrepid proposes to construct and operate a solution mining project in an existing deep mine located approximately 20 miles northeast of Carlsbad in Eddy County, New Mexico, in the Secretary's Potash Area.

The potash left in the pillars and walls of the inactive underground mine workings is not accessible through conventional methods. The proposed action is to inject saline water into the mine workings, dissolve potash, and extract the mineral solution. This mineral-rich solution would be pumped to the surface and transported through a series of surface pipelines to evaporation ponds. Once the solution evaporates in the ponds, the potassium-bearing salts would be harvested from the ponds and transported to a newly constructed mill for ore refinement.

The project area is located in portions of Township 19 South, Range 30 and 31 East, Township 20 South, Ranges 29, 30 and 31 East and Township 21 South, Ranges 29 and 30 East, New Mexico Principal Meridian. The project area, which encompasses the proposed facilities and inactive workings under consideration, includes a total of 38,453 acres, of which 82 percent is on public lands managed by the U.S. Department of the Interior, Bureau of Land Management. Four thousand three hundred and thirty acres of open mine workings are targeted for flooding but the total surface footprint of the project would be 822 acres.

The BLM initiated the NEPA process for the HB In-Situ Solution Mine Project by preparing an environmental assessment (EA) in 2008. Two public scoping meetings were held on September 16, 2008, to receive public input and comments on the proposed project. During development of the EA and prior to publication, the BLM determined that the preparation of an EIS would be required for the proposed project. The Notice of Intent to prepare an EIS for the HB In-Situ Solution Mine Project was published in the Federal Register on January 12, 2010, and two public scoping meetings were conducted on January 26, 2010. A scoping report was compiled and published on April 1, 2010. Major issues identified for this project include water use, ground subsidence, and the concurrent development of oil and gas resources in the same area.

Alternatives developed include the proposed action (Alternative A) which uses non-potable water supplied by seven wells in the Rustler formation. Alternative B includes six of the seven wells from the proposed action but also considers that a substantial portion of the water needed for the project would be supplied from fresh water wells in the Caprock formation (Ogallala Aquifer) 30 miles northeast of the project area. Alternative C buries the pipelines to reduce surface impacts. An alternate routing of pipelines to the Caprock is also being considered under Alternative B.

Currently, a preferred alternative has not been selected. Alternative A uses a greater quantity of non-potable saline water; however, this has impacts to the environment from the drawdown of the aquifer. Alternative B uses a greater quantity of potable fresh water but impacts from drawdown of the aquifers would be reduced.

Please note that public comments and information submitted including names, street addresses, and email addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6 and 1506.10.

Linda S.C. Rundell,
State Director.

[FR Doc. 2011-9074 Filed 4-14-11; 8:45 am]

BILLING CODE 4310-OX-P